DEPARTMENT OF LABOR

Employment and Training Administration

[TA-W-70,030]

Pittsburgh Glass Works, LLC, Plant No. 23, Including On-Site Leased Workers From Belcan Techservices Division and Securitas Security Services Evart, MI; Amended Certification Regarding Eligibility To Apply for Worker Adjustment Assistance

In accordance with Section 223 of the Trade Act of 1974, as amended (“Act”), 19 U.S.C. 2273, the Department of Labor issued a Certification of Eligibility to Apply for Worker Adjustment Assistance on October 21, 2009, applicable to workers of Pittsburgh Glass Works, LLC, Plant No. 23, Evart, Michigan. The notice will be published soon in the Federal Register.

At the request of company officials, the Department reviewed the certification for workers of the subject firm. The workers are engaged in the production of automotive glass.

The company reports that on-site leased workers from Belcan TechServices Division and Securitas Security Services were employed on-site at the Evart, Michigan location of Pittsburgh Glass Works, LLC, Plant No. 23.

The Department has determined that these workers were sufficiently under the control of the subject firm to be considered leased workers.

Based on these findings, the Department is amending this certification to include workers leased from Belcan TechServices Division and Securitas Security Services working on-site at the Evart, Michigan location of Pittsburgh Glass Works, LLC, Plant No. 23.

The amended notice applicable to TA-W-70,030 is hereby issued as follows:

All workers of Pittsburgh Glass Works, LLC, Plant No. 23, including on-site leased workers from Belcan TechServices Division and Securitas Security Services, Evart, Michigan, who became totally or partially separated from employment on or after May 18, 2008 through October 21, 2011, and all workers in the group threatened with total or partial separation from employment on the date of certification, are eligible to apply for adjustment assistance under Chapter 2 of Title II of the Trade Act of 1974, as amended.

Signed at Washington, DC, this 23rd day of November 2009.
Richard Church,
Certifying Officer, Division of Trade Adjustment Assistance.

[FR Doc. E9-29510 Filed 12-10-09; 8:45 am]

BILLING CODE 4510-FN-P